DEPARTMENT OF COMMERCE

National Oceanic and Atmospheric Administration

50 CFR Part 648

[Docket No. 021017238-2238-01; I.D. 092602I]

RIN 0648-AQ31

Fisheries of the Northeastern United States; Proposed 2003 Fishing Quotas for Atlantic Surfclams, Ocean Quahogs, and Maine Mahogany Ocean Quahogs

AGENCY: National Marine Fisheries Service (NMFS), National Oceanic and Atmospheric Administration (NOAA), Commerce.

ACTION: Proposed 2003 fishing quotas for Atlantic surfclams, ocean quahogs, and Maine mahogany ocean quahogs; request for comments.

SUMMARY: NMFS proposes quotas for the Atlantic surfclam, ocean quahog, and Maine mahogany ocean quahog fisheries for 2003. Regulations implementing the Fishery Management Plan for Surf Clams and Ocean Quahog Fisheries require NMFS to propose for public comment specifications for the 2003 fishing year. The intent of this action is to propose allowable harvest levels of Atlantic surfclams and ocean quahogs from the exclusive economic zone and an allowable harvest level of Maine mahogany ocean quahogs from Atlantic waters north of 43°50' N. lat. in 2003.

DATES: Comments must be received no later than 5 p.m., eastern standard time, on November 27, 2002.

ADDRESSES: Written comments on the proposed specifications should be sent to: Patricia A. Kurkul, Regional Administrator, Northeast Region, NMFS, One Blackburn Drive, Gloucester, MA 01930-2298. Mark on the outside of the envelope, “Comments—2002 Clam and Quahog Specifications.” Comments may also be sent via facsimile (fax) to (978) 281-9135. Comments will not be accepted if submitted via e-mail or the Internet.

Copies of supporting documents, including the Environmental Assessment, Regulatory Impact Review, Initial Regulatory Flexibility Analysis (EA/RIR/IRFA), and the Essential Fish Habitat Assessment, are available from Daniel Furlong, Executive Director, Mid-Atlantic Fishery Management Council, Room 2115, Federal Building, 300 South New Street, Dover, DE 19904-6790. A copy of the EA/RIR/IRFA is accessible via the Internet at http://www.nero.gov/ro/doc/nr.htm.

FOR FURTHER INFORMATION CONTACT: Susan A. Murphy, Fishery Policy Analyst, 978-281-9252.

SUPPLEMENTARY INFORMATION: The Fishery Management Plan for the Atlantic Surfclam and Ocean Quahog Fisheries (FMP) requires NMFS, in consultation with the Mid-Atlantic Fishery Management Council (Council), to specify quotas for surfclams and ocean quahogs on an annual basis from a range that represents the optimum yield (OY) for each fishery. It is the policy of the Council that the levels selected must allow sustainable fishing to continue at that level for at least 10 years for surfclams and 30 years for ocean quahogs. In addition to this constraint, the Council policy also considers the economic impacts of the quotas. Regulations implementing Amendment 10 to the FMP published on May 19, 1998 (63 FR 27481), added Maine mahogany ocean quahogs to the management unit and provided that a small artisanal fishery for ocean quahogs in the waters north of 43°50′ N. lat. has an annual quota with an initial amount of 100,000 Maine bu (35,240 hectoliters (hL)) within a range of 17,000 to 100,000 Maine bu (5,991 hL to 35,240 hL). As specified in Amendment 10, the Maine mahogany ocean quahog quota is in addition to the quota specified for the ocean quahog fishery. The fishing quotas must be in compliance with overfishing definitions for each species. In proposing these quotas, the Council considered the available stock assessments, data reported by harvesters and processors, and other relevant information concerning exploitable biomass and spawning biomass, fishing mortality rates, stock recruitment, projected effort and catches, and areas closed to fishing. This information was presented in a written report prepared by the Council staff. The proposed quotas for the 2003 Atlantic surfclam, ocean quahog, and Maine mahogany ocean quahog fisheries are shown here. The status quo levels of 2002 for both the regular ocean quahog and the Maine mahogany ocean quahog are proposed to be maintained for 2003, but the surfclam quota would be increased by 4 percent from 3.135 million bu to 3.250 million bu (1.669 million hL to 1.730 million hL).

Proposed 2003 Surfclam/Ocean Quahog Quotas
Fishery | 2003 final quotas (bu) | 2003 final quotas (hL)
Surfclam ¹ | 3,250,000 | 1,730,000
Ocean quahog ¹ | 4,500,000 | 2,396,000
Maine mahogany quahog ² | 100,000 | 35,240
¹ 1 bushel = 1.88 cubic ft. = 53.24 liters.
² 1 bushel = 1.2445 cubic ft. = 35.24 liters.

Surfclams

The Council's recommended 2003 quota of 3.25 million bu (1.730 million hL) for surfclams is the third change in the quota since 1995. In 1999, the Council expressed its intention to increase the surfclam quota to OY over a period of 5 years, (OY = 3.4 million bushels (1.810 million hL)). The most recent assessment for surfclams (SAW 30) indicated that the resource is at a high level of biomass, is under-exploited, and can safely sustain increased harvests, but cautioned that it may be advantageous to avoid localized depletion. Industry reports that the current demand for clam products is very strong. In fact, all of the 2.850 million bu (1.517 million hL) quota was harvested from Federal waters in 2001, with landings of surfclams from both state and Federal waters increasing by 1 percent in 2001 to a total of 4.05 million bu (2.156 million hL). However, recent information reported by industry participants in their vessel trip reports has shown a reduction in the landings per unit of effort, an important indicator that the annual quota is approaching the OY for the resource. The majority of the surfclam catch continues to be derived from one area (northern New Jersey). Based on the information and advice from the most recent assessment for surfclams, the Council recommends an increase of 4 percent from the 2002 level of 3.135 million bu (1.669 million hL), rather than taking the entire allowable maximum increase in a single year. This would result in a 2003 quota of 3.25 million bu (1.720 million hL).

Ocean Quahogs

The Council has recommended a 2003 quota of 4.5 million bu (2.396 million hL) for ocean quahogs. This quota would be identical to that adopted for the past 4 years, but represents an increase of 13 percent from the 1998 quota level. Although ocean quahog landings have been on a declining trend since the 4.9-million bu (2.609-million hL) peak in 1992, quahog landings in fishing year 2001 increased by approximately 0.5 million bu (0.266 million hL) from 2000 levels, to a total of 3.69 million bu (1.965 million hL), or 82 percent of the annual quota. Explanations as to why the annual quota has not been fully harvested include the observation that productivity of existing ocean quahog beds has been steadily declining as the formerly dense beds of quahogs are fished down, and the fact that fuel prices have increased substantially in the past 3 years, creating heightened costs of traveling long distances to fish offshore beds. Due to these higher costs, industry has been increasingly substituting surfclams for ocean quahog sales. These combined factors have led to the underharvest of the ocean quahog quota. Based on advice from SAW 31, the Council recommends maintaining the ocean quahog quota for 2003 at the 2002 level of 4.50 million bu (2.396 million hL).

The Atlantic surfclam and ocean quahog quotas are specified in standard bushels of 53.24 L. per bushel, while the Maine mahogany ocean quahog quota is specified in “Maine” bu of 35.24 L per bu. (see section 648.2 for definitions of “bushel” and “Maine bushel”). Because Maine mahogany ocean quahogs are the same species as ocean quahogs, both fisheries are combined and share the same ocean quahog overfishing definition. When the two quota amounts (ocean quahog and Maine mahogany quahog) are added, the total allowable harvest is still lower than the level that would result in overfishing for the entire stock.

The Council has recommended that the Maine mahogany ocean quahog quota remain unchanged from the 2002 quota level at 100,000 Maine bu (35,240 hL) for 2003. No additional information on the impacts of the mahogany quahog quota that would allow a more in-depth analysis of the stock and, therefore, allow the quota to be increased beyond the current maximum level of 100,000 Maine bu (35,240 hL) is available at this time. An effort within the State of Maine is currently underway to initiate a scientific survey and assessment of the mahogany ocean quahog resource. From the information currently available, maintaining the quota at its current level for another year will not seriously constrain the fishery or endanger the resource.

Classification

This action is authorized by 50 CFR part 648 and has been determined to be exempt from review under Executive Order 12866.

The Council prepared an IRFA in section 8.0 of the RIR that describes the economic impacts this proposed rule, if adopted, would have on small entities. A description of the action, why it is being considered, the objectives and the legal basis for this action are contained in the SUPPLEMENTARY INFORMATION section. This action does not duplicate, overlap, or conflict with any other Federal rules. A summary of the IRFA follows:

Vessels

In 2001, a total of 51 vessels reported harvesting surfclams or ocean quahogs from Federal waters under an Individual Transferable Quota (ITQ) system. Average 2001 gross income for surfclam harvests was $753,682 per vessel, and $678,885 per vessel for ocean quahog harvests. In the small artisanal fishery for ocean quahogs in Maine, 31 vessels reported harvests in the clam logbooks, with an average value of $113,181 per vessel. All of these vessels fall within the definition of a small entity. The Council recommends no change in the 2003 quotas for ocean quahogs or Maine mahogany ocean quahogs from their 2002 quotas, and a 4-percent increase in the surfclam quota. Since 2001 harvest levels of 2.855 and 3.691 million bu (1.520 and 1.965 million hL) for surfclams and ocean quahogs, respectively, were below the 2003 proposed quotas, the Council believes that the proposed 2003 quotas may yield a surplus quota available to vessels participating in all these fisheries. This is especially likely to occur in the ocean quahog fishery. In the case of a surplus quota, vessels would not be constrained from harvesting additional product, thus, allowing them to increase their revenues.

The Council analyzed four ocean quahog quota alternatives in addition to the preferred 4.500-million bu (2.396 million hL) option, including 4.000, 4.250, 4.750, and 6.000 million bu (2.129, 2.263, 2.529, and 3.195 million hL). The minimum allowable quota specified in the current OY range is 4.000 million bu (2.129 million hL) of ocean quahogs. Adoption of a 4.000 million bu (2.129 million hL) quota would represent a 12-percent decrease from the current 4.500 million bu (2.396 million hL) quota and, assuming the entire quota is harvested, an 8-percent increase in harvest from the 2001 harvest level of 3.691 million bu (1.965 million hL). This alternative would take the most conservative approach to managing the fishery that is currently available to the Council. Adopting the maximum allowable quota of 6.000 million bu (3.195 million hL) for ocean quahogs would represent a 33-percent increase in allowable harvest and a 63-percent increase in landings from 2001, assuming all the quota were harvested. However, the industry does not have a market available to absorb such a large increase in landings and may not have the vessel capacity necessary to harvest a quota this large. Since all alternatives, including the preferred, would yield increases relative to the actual 2001 landings, increased revenues would be likely to occur.

The Council identified four surfclam quota alternatives in addition to the preferred alternative of 3.250 million bu (1.730 million hL), including 1.850, 2.850, 3.135, and 3.400 million bu (0.985,1.517, 1.669, and 1.810 million hL). The minimum allowable quota specified in the current OY range is 1.850 million bu (0.985 million hL) of surfclams. Adoption of a 1.850 million bu (0.985 million hL) quota would represent a 41-percent decrease from the current 3.135 million bu (1.517 million hL) quota, and a 35-percent decrease from the 2001 harvest level of 2.855 million bu (1.520 million hL). A reduction in quota of this magnitude would have a substantially negative impact on overall exvessel revenues. Adoption of the 2.850 million bu (1.517 million hL) quota would be equivalent to the 2001 surfclam landings and would represent a 9-percent decrease from the 2002 quota level of 3.135 million bu (1.517 million hL). Given the current biological status of the surfclam resource, the Council does not believe that a quota reduction is warranted at this time. Adoption of the 3.135 million bu (1.669 million hL) quota would most likely have a limited impact on small entities, since it results in no change from status quo. Adopting the maximum allowable quota of 3.400 million bu (1.810 million hL) for surfclams would allow for an 8-percent increase in the surfclam quota. The Council is not recommending a quota increase of this magnitude at this time, due to uncertainties in the stock assessment. The preferred alternative allows for a 4-percent increase from 3.135 million bu (1.669 million hL) to 3.25 million bu (1.730 million hL). In summation, the Council determined that the only alternative that would significantly negatively impact revenues to vessels is the 1.850 million bu (0.985 million hL) alternative for surfclams. The 2.850 million bu (1.517 million hL) and status quo alternative would be restrictive and have a slight to moderate impact on revenues. The resource can support the 4-percent increase in landings and the industry believes it can utilize this additional product and thus have a beneficial impact for the Nation.

The quota for Maine mahogany ocean quahogs is specified at a maximum 100,000 bu (35,240 hL). The FMP specifies that upward adjustments to the quota would require a scientific survey and stock assessment of the Maine mahogany ocean quahog resource. However, no survey or assessment has been conducted. The Council considered two alternative quotas for the Maine mahogany fishery, in addition to the preferred alternative of 100,000 bu (35,240 hL), including 50,000 bu and 72,466 bu (17,620 and 25,537 hL). Any quota the Council would have recommended below the 1999 landing level of 93,938 Maine bu (33,104 hL) would most likely have resulted in a decrease in revenues to individual vessels.

Processors

In 2001, there were 13 processors that participated in the surfclam and ocean quahog fisheries, plus 10 companies that bought ocean quahogs directly from vessels from within the State of Maine. Of the 13 processors, approximately 5 are responsible for the vast majority of purchases in the exvessel market and sale of processed clam products in appropriate wholesale markets. Impacts to surfclams and ocean quahog processors would most likely mirror the impacts of the various quotas to vessels as discussed above. Revenues earned by processors would be derived from the wholesale market for clam products, and since a large number of substitute products (i.e., other food products) are available, the demand for processed clam products is likely to be price-dependant.

Allocation Holders

In 2002, surfclam allocation holders totaled 99, while 63 firms or individuals held ocean quahog allocation. If the recommended quotas are accepted, i.e., no change from 2002 quotas on ocean quahogs, Maine mahogany ocean quahogs, and a slight increase of 4 percent for surfclams, it is likely that impacts to allocation holders or buyers will be minimal. Theoretically, increases in quota would most likely benefit those who purchase quota (through lower prices (values)) and negatively impact sellers of quota because of reduction in value. Decreases in quota would most likely have an opposite effect.

Reporting and Recordkeeping Requirements

This proposed rule would not impose any new reporting, recordkeeping, or other compliance requirements. Therefore, the costs of compliance would remain unchanged.

Authority: 16 U.S.C. 1801 et. seq.

Dated: October 24, 2002.
Rebecca Lent,
Deputy Assistant Administrator for Regulatory Programs, National Marine Fisheries Service.

[FR Doc. 02-27505 Filed 10-28-02; 8:45 am]

BILLING CODE 3510-22-P